NATIONAL AERONAUTICS AND SPACE ADMINISTRATION

[Notice: (25-045)]

Privacy Act of 1974; System of Records

AGENCY: National Aeronautics and Space Administration (NASA).

ACTION: Notice of a modified system of records; correction.

SUMMARY: In accordance with the requirements of the Privacy Act of 1974, the National Aeronautics and Space Administration is providing public notice of a modification to an existing system of records entitled NASA Core Financial Management Records (CFMR). Records in this system are used to process reimbursement payments to employees for travel, purchase of books or other miscellaneous items; and to process payments and collections in which an individual is reimbursing the Agency. The system of records is more fully described in the SUPPLEMENTARY INFORMATION section of this notice.

DATES: Submit comments within 30 calendar days from the date of this publication. The proposed modification to this system will take effect at the end of that period if no significant adverse comments are received.

ADDRESSES: Submit comments to Stayce Hoult, Privacy Act Officer, Office of the Chief Information Officer, Mary W. Jackson, NASA Headquarters, Washington, DC 20546-0001, 757-864-3292, or NASA-PAOfficer@nasa.gov.

FOR FURTHER INFORMATION CONTACT: NASA Privacy Act Officer, Stayce Hoult, 256-544-7705, or NASA-PAOfficer@nasa.gov.

SUPPLEMENTARY INFORMATION: In the Federal Register of December 5, 2025, in FR Doc. 2025-21971, on page 56184, in the second column, correct paragraph 2 in the ROUTINE USES OF RECORDS MAINTAINED IN THE SYSTEM, INCLUDING CATEGORIES OF USERS AND PURPOSES OF SUCH USES section to read:

To external entities (e.g., organizers of symposiums, conferences and workshops), which have provided funds to NASA employees, to process payments and/or collections for activities undertaken in the performance of their duties (e.g., attending conferences, travel, training, or other assignment for NASA).

On page 56185, in the third column, correct the citations in the HISTORY section to read:

• (90 FR 56183, pp. 56183-56185) Published: 12/05/2025.

• (88 FR 30171, pp. 30171-30173) Published: 05/10/2023.

Stayce D. Hoult,
NASA Chief Privacy Officer.

[FR Doc. 2026-02105 Filed 2-2-26; 8:45 am]

BILLING CODE 7510-13-P